DEPARTMENT OF COMMERCE

International Trade Administration

[C-475-821]

Stainless Steel Wire Rod From Italy: Rescission of Countervailing Duty Administrative Review

AGENCY: Import Administration, International Trade Administration, Department of Commerce.

ACTION: Notice of Rescission of Countervailing Duty Administrative Review.

SUMMARY: On October 28, 1999, in response to a request from respondents, the Department of Commerce initiated an administrative review of the countervailing duty order on stainless steel wire rod from Italy. The review covers the period January 1, 1998 through December 31, 1998. In accordance with 19 CFR 351.213(d)(1), the Department is now rescinding this review because the respondents have withdrawn their request for review.

EFFECTIVE DATE: February 8, 2000.

FOR FURTHER INFORMATION CONTACT: Eric B. Greynolds, AD/CVD Enforcement, Group II, Office VI, Import Administration, U.S. Department of Commerce, Room 4012, 14th Street and Constitution Avenue, N.W., Washington, D.C. 20230; telephone (202) 482-2786.

SUPPLEMENTARY INFORMATION: On September 30, 1999, the Department received a request for an administrative review of the countervailing duty order on stainless steel wire rod from Italy from Accaiaerie Valbruna S.r.l. and Accaiaerie di Bolzano SpA (respondents), for the period January 1, 1998 through December 31, 1998. On November 4, 1999, the Department published in the Federal Register (64 FR 60161) a notice of “Initiation of Countervailing Duty Administrative Review” initiating the administrative review. On November 15, 1999, respondents withdrew their request for review.

The applicable regulation, 19 CFR 351.213(d)(1), states that if a party that requested an administrative review withdraws the request within 90 days of the date of publication of the notice of initiation of the requested review, the Secretary will rescind the review. In this case, respondents have withdrawn their request within the 90 day period. No other interested party requested a review, and we have received no other submissions regarding respondents' withdrawal of its request for review. Therefore, we are rescinding this review of the countervailing duty order on stainless steel wire rod from Italy covering the period January 1, 1998, through December 31, 1998.

This notice is published in accordance with 19 CFR 351.213(d)(4).

Dated: January 27, 2000.
Holly A. Kuga,
Acting Deputy Assistant Secretary for Import Administration.

[FR Doc. 00-2844 Filed 2-7-00; 8:45 am]

BILLING CODE 3510-DS-P